DEPARTMENT OF AGRICULTURE

Forest Service

Southwest Oregon Provincial Advisory Committee; Notice of Meeting

SUMMARY: The Southwest Oregon Provincial Advisory Committee will meet on Tuesday, January 11th, 2005 to discuss topics including the Josephine County Fire Plan, Northern Spotted Owl Five Year Review, and fire plan working group report. The meeting will be held at the Josephine County Fairgrounds Art Building, 1451 Fairgrounds Road, Grants Pass, Oregon. It begins at 9 a.m., ends at 5 p.m.; the open public forum begins at 11:30 a.m. Written comments may be submitted prior to the meeting and delivered to Designated Federal Official, Scott Conroy at the Rogue River-Siskiyou National Forest, PO Box 520, Medford, OR 97501.

FOR FURTHER INFORMATION CONTACT: Rogue River-Siskiyou National Forest Public affairs Officer Patty Burel at (541) 858-2211, e-mail: pburel@fs.fed.us, or USDA Forest Service, PO Box 520, 333 West 8th Street, Medford, OR, 97501.

Dated: December 23, 2004.
Nancy Rose,
Acting Forest Supervisor, Rogue River-Siskiyou National Forest.

[FR Doc. 04-28656 Filed 12-30-04; 8:45 am]

BILLING CODE 3410-11-M